CORPORATION FOR NATIONAL AND COMMUNITY SERVICE

Agency Information Collection Activities; Submission to the Office of Management and Budget for Review and Approval; Comment Request; Application Package for Segal AmeriCorps Education Award Commitment Form; Proposed Information Collection; Comment Request

AGENCY: Corporation for National and Community Service.

ACTION: Notice.

SUMMARY: The Corporation for National and Community Service (CNCS) has submitted a public information collection request (ICR) entitled Application Package for Segal AmeriCorps Education Award Commitment Form for review and approval in accordance with the Paperwork Reduction Act of 1995.

DATES: Comments may be submitted, identified by the title of the information collection activity, by August 20, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Rhonda Taylor, at 202-606-6721, or by email to RTaylor@cns.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on February 18, 2018 at Vol. 83, No. 30. This comment period ended March 15, 2018. Zero public comments were received from this Notice.

Description: The information is provided by institutions of higher education that are requesting to be listed on the Segal AmeriCorps Education Award Matching Program section of the Corporation for National and Community Service website. The information will be collected electronically by CNCS. CNCS seeks to renew the current information collection. The revisions are intended to renew the current information collection. The information collection will otherwise be used in the same manner as the existing application. CNCS also seeks to continue using the current application until the revised application is approved by OMB. The current application expired on 5/31/2018.

Type of Review: Renewal.

Agency: Corporation for National and Community Service.

Title: Segal AmeriCorps Education Award Commitment Form.

OMB Control Number: 3045-0143.

Agency Number: None.

Affected Public: Institutions of higher education that provide incentives for AmeriCorps alumni, such as matching the AmeriCorps Education Award that members receive after successful completion of the AmeriCorps Program, and that request to be listed on the Segal AmeriCorps Education Award Matching Program section of the Corporation for National and Community Service website.

Total Respondents: Estimated 200 colleges and universities.

Frequency: Once every five years.

Average Time per Response: Average 30 minutes.

Estimated Total Burden Hours: 100 hours.

Total Burden Cost (Capital/Startup): None.

Total Burden Cost (Operating/Maintenance): None.

Dated: June 25, 2018.
Rhonda Taylor,
Director of Partnerships and Public Engagement.

[FR Doc. 2018-15593 Filed 7-19-18; 8:45 am]

BILLING CODE 6050-28-P